DEPARTMENT OF DEFENSE

48 CFR Parts 204, 207, 209, 219, 236, 242, and 252, and Appendices E, F, and G to Chapter 2

Defense Federal Acquisition Regulation Supplement; Technical Amendments

AGENCY: Department of Defense (DoD).

ACTION: Final rule.

SUMMARY: The Director of Defense Procurement is making technical amendments to the Defense Federal Acquisition Regulation Supplement to update titles, references, paragraph numbers, and activity names, addresses, and telephone numbers.

EFFECTIVE DATE: October 25, 2000.

FOR FURTHER INFORMATION CONTACT: Ms. Michele Peterson, Defense Acquisition Regulations Council, OUSD (AT&L) DP (DAR), IMD 3C132, 3062 Defense Pentagon, Washington, DC 20301-3062. Telephone (703) 602-0311; telefax (703) 602-0350.

List of Subjects in 48 CFR Parts 204, 207, 209, 219, 236, 242, and 252

Government procurement.

Michele P. Peterson,
Executive Editor, Defense Acquisition Regulations Council.

Therefore, 48 CFR Parts 204, 207, 209, 219, 236, 242, and 252, and Appendices E, F, and G to Chapter 2 are amended as follows:

1. The authority citation for 48 CFR Parts 204, 207, 209, 219, 236, 242, and 252, and Appendices, E, F, and G to subchapter I continues to read as follows:

Authority: 41 U.S.C. 421 and 48 CFR Chapter 1.

PART 204—ADMINISTRATIVE MATTERS

2. Section 204.7202-1 is amended by revising paragraph (c) to read as follows:

204.7202-1 CAGE codes.

* * * * *

(c) Direct questions on obtaining computer tapes, electronic updates, or code assignments to DLIS Customer Service: toll-free (888) 227-2423 or (888) 352-9333; DSN 932-4725; or commercial (616) 961-4725.

3. Section 204.7204 is amended in paragraph (b) by revising the last two sentences to read as follows:

204.7204 Maintenance of the CAGE file.

* * * * *

(b) * * * Telephone Numbers: toll-free (888) 352-9333, DSN 932-4725, commercial (616) 961-4725. Facsimile: (616) 961-4388, 4485.

* * * * *

PART 207—ACQUISITION PLANNING

207.105 [Amended]

4. Section 207.105 is amended in paragraph (b)(13)(iv) in the last sentence by removing “DoD 4120.3-M” and adding in its place “DoD 4120.24-M”

PART 209—CONTRACTOR QUALIFICATIONS

209.202 [Amended]

5. Section 209.202 is amended in paragraph (a)(1) in the first sentence as follows:

a. By removing “which” and adding in its place “that”;

b. By removing “DoD Manual 4120.3-M” and adding in it place “DoD 4120.24-M” and

c. By adding “(DSP)” after “Program”.

PART 219—SMALL BUSINESS PROGRAMS

219.202-5 [Amended]

6. Section 219.202-5 is amended in the introductory text by removing “Item D4E” and adding in its place “Item D4C”.

PART 236—CONSTRUCTION AND ARCHITECT-ENGINEER CONTRACTS

7. Section 236.570 is amended by revising paragraph (a)(2) to read as follows:

236.570 Additional provisions and clauses.

(a) * * *

(2) 252.236-7001, Contract Drawings and Specifications.

* * * * *

8. Section 236.701 is amended by revising paragraph (c) to read as follows:

236.701 Standard and optional forms for use in contracting for construction or dismantling, demolition, or removal of improvements.

(c) Do not use Optional Form 347, Order for Supplies or Services (see 213.307).

PART 242—CONTRACT ADMINISTRATION AND AUDIT SERVICES

242.002 [Amended]

9. Section 242.002 is amended in paragraph (S-70) (iii) introductory test in the first sentence by adding “Business” after “Federal”.

242.1203 [Amended]

10. Section 242.1203 is amended as follows:

a. By redesignating paragraphs (b)(2)(A), (B), and (C) as paragraphs (b)(2)(B), (C), and (D), respectively;

b. By redesignating paragraph (b)(1) as paragraph (b)(2)(A);

c. In newly designated paragraph (b)(2)(A), in the entry “National Aeronautics and Space Administration”, by removing “Assistant” and adding in its place “Associate”; by removing “HP” and adding in its place “HS”; and by removing “20546” and adding in its place “20546-0001”;

d. In newly designated paragraph (b)(2)(D) by removing the reference “(b)(1)” and adding in its place “(b)(2)(A)”;

e. By redesignating paragraphs (d), (e), and (f) as paragraphs (f), (g), and (h), respectively;

f. In newly designated paragraph (f)(i) in the first sentence by removing the references “42.1204(e)” and “(b)(1)” and adding in their place “42.1204(i)” and “(b)(2)(A)”, respectively;

g. In new designated paragraph (g)(i) by removing the reference “(b)(1)” and adding in its place “(b)(2)(A)”;

h. In newly designated paragraph (h)(4)(A) in the first sentence by removing the reference ”(b)(1)” and adding in its place “(b)(2)(A)”; and

i. In newly designated paragraph (h)(4)(B) in the first sentence by removing “paragraph (e)(ii)” and adding in its place “paragraph (g)(ii) of this section”.

242.1204 [Amended]

11. Section 242.1204 is amended as follows:

a. By redesignating paragraph (e) as paragraph (i); and

b. In the introductory text of newly designated paragraph (i) by removing the reference “42.1204(e)” and adding in its place “42.1204(i)”.

PART 252—SOLICITATION PROVISIONS AND CONTRACT CLAUSES

252.247-7015 [Amended]

12. Section 252.247-7015 is amended in the introductory text by removing “216.505(d)” and adding in its place “216.506(d)”.

* * * * *

13. Appendix E to Chapter 2 is amended by revising Exhibit II to read as follows:

Appendix E—DOD Spare Parts Breakout Program

Exhibit II—Full Screening Decision Process Summary Flow Chart

Note: Copies of Exhibit II can be obtained from: Defense Acquisition Regulations System, OUSD (AT&L), 3062 Defense Pentagon, Washington, DC 20301-3062; datafax (703) 602-0350.

14. Appendix F to Chapter 2 is amended in Part 4, Section F-401, by revising Material Inspection and Receiving Report, Table 2—Special Distribution, to read as follows:

Appendix F—Material Inspection and Receiving Report

* * * * *

F-401 Distribution

* * * * *

Material Inspection and Receiving Report

Table 2.—Special Distribution
As required | Address | Number of copies
Each: Navy Status Control Activity, Army, Air Force, DLA Inventory Control Manager | Address specified in contract | 1 Each addressee.
Quality Assurance Representative | Address specified by the assigned quality assurance representative | 1
Transportation Office issuing GBL (attach to GBL memorandum copy) | CAO address otherwise specified in the contract | 1
Purchasing Office other than office issuing contract | Address specified in the contract | 1
Foreign Military Sales Representative | Address specified in the contract | 8
Military Assistance Advisory Group (Grant Aid shipments) | U.S. Military Advisory Group, Military Attache, Mission, or other designated agency address as specified in the contract | 1
Army Foreign Military Sales | Commander, U.S. Army Security Assistance Command, ATTN: AMSAC-OL, 54 “M” Avenue, Suite 1, New Cumberland, PA 17070-5096 | 1
Air Force: On shipments of new production of aircraft and missiles, class 1410 missiles, 1510 aircraft (fixed wing, all types), 1520 aircraft (rotary wing), 1540 gliders, 1550 target drones | HQ Air Force Materiel Command, LGX-AVDO, Area A, Building 262, Room N142, 4375 Chidlaw Road, Wright-Patterson AFB, OH 45433-5006 | 1
When above items are delivered to aircraft modification centers | DCMA | 1
Foreign Military Sales/Military Assistance Program (Grant Aid) shipments to Canada | National Defense Headquarters, Ottawa, Ontario, Canada, K1A OK4, ATTN: DPSUPS3 | 1
Other than Canada | Address in the contract | 1
When consignee is an Air National Guard Activity | Consignee address (Block 13), ATTN: Property Officer | 3
Navy: Navy Foreign Military Sales | Naval Inventory Control Point, Deputy Commander for International Programs (NAVICP Code P761), 700 Robbins Avenue, Philadelphia, PA 19111-5095 | 2
When typed code (TC) 2T or 7T is shown in Block 16, or when shipment is consigned to another contractor's plant for a Government representative or when Block 16 indicates shipment includes GFP | Naval Inventory Control Point (Code 0142) for aviation type material, 700 Robbins Avenue, Philadelphia, PA 19111-5098, and | 2
| Naval Inventory Control Point (Code 0143) for all other material, 5450 Carlisle Pike, PO Box 2020, Mechanicsburg, PA 17055-0788 | 2
Bulk Petroleum Shipments | Cognizant Defense Fuel Region (see Table 4) | 1

15. Appendix G to Chapter 2 is amended in part 1, Section G-101, paragraph (c), by revising the text under the NAVY* and MARINE CORPS* headings and the last sentence to read as follows:

Appendix G—Activity Address Numbers

* * * * *

G-101 Assignment and use of a number.

* * * * *

(c) * * *

NAVY*

Defense Finance and Accounting Service, Cleveland (Code AADB), 1240 East Ninth Street, Cleveland, OH 44199-4000

MARINE CORPS*

Headquarters, U.S. Marine Corps, 2 Navy Annex, Room 2135, Washington, DC 20380-1775

* * * * *

* The Navy and Marine Corps Activity Address Monitor for assignment of two-character call/order serial numbers is: Office of the Assistant Secretary of the Navy (RD&A), 2211 south Clark Place, Crystal Plaza 5, Room 506, Arlington, VA 22202-3738.

16. Appendix G to Chapter 2 is amended in Part 3 as follows:

Appendix G to Ch. 2 [Amended]

a. By revising entry “N00244”;

b. By adding, in alpha-numerical order, two new entries “N3258A” and “N47634”;

c. By removing entry “N68142”; and

d. By revising entry “N68246”. The revised and added text reads as follows:

Part 3—Navy Activity Address Numbers

* * * * *

N00244 NW—Fleet and Industrial Supply Center San Diego, 937 North Harbor Drive, San Diego, CA 92132-0060,

* * * * *

N3258A FZG—Navy Crane Center, Naval Facilities Engineering Command, 10 Industrial Highway, Mail Stop 82, Lester, PA 19113-2090

* * * * *

N47634 NK—Naval Computer and Telecommunications, Area Master Station, Atlantic, Detachment Pensacola, 130 West Avenue, Suite B, Pensacola, FL 32508-5111

* * * * *

N68246 (MAJ00070) 4LL-N EY—Officer-in-Charge, FISC Yokosuka Det. (Sasebo, Japan), PSC 476, Box 6, FPOAP 96322-1500

* * * * *

17. Appendix G to Chapter 2 is amended in part 4 as follows:

a. In entry “M67011” by adding “, MSA” after “(MAJ00027)”;

b. In entry “M67865” by removing “J9” and adding in its place “MV”; and

c. By adding, in alpha-numerical order, a new entry “M85001” to read as follows:

Part 4—Marine Corps Activity Address Numbers

* * * * *

M85001 (MAJ00027)—Contracting Office, Marine Aviation Training Support Group, 222 East Avenue, Pensacola, FL 32508-5213

Part 5—[Amended]

18. Appendix G to Chapter 2 is amended in Part 5 in the entry “F30602” by removing “AFRL/IFOJ” and adding in its place “AFRL/IFK”.

19. Appendix G to Chapter 2 is amended by revising Part 9 to read as follows:

Part 9—Defense Threat Reduction Agency Activity Address Numbers

DTRA01 8Z—Defense Threat Reduction Agency (AM), DTRA Annex, 8725 John J. Kingman Road, MSC 6201, Fort Belvoir, VA 22060-6201 (ZT01)

DTRA02 0N—Defense Threat Reduction Agency, Acquisition Management Albuquerque (AMA), 1680 Texas Street SE, Kirtland AFB, NM 87117-5669 (ZT02)

[FR Doc. 00-27243 Filed 10-24-00; 8:45 am]

BILLING CODE 5000-04-M